DEPARTMENT OF THE INTERIOR

Bureau of Land Management

[BLM_AZ_FRN_MO4500181293]

Notice of Segregation of Public Lands for the Pinyon Solar Project, Maricopa County, Arizona and Elisabeth Solar Project, Yuma County, Arizona County, Utah

AGENCY: Bureau of Land Management, Interior.

ACTION: Notice.

SUMMARY: In connection with its consideration of the right-of-way (ROW) application (AZA38172) for the Pinyon Solar Project, and the proposed plan of development for the Elisabeth Solar Project, for which the Bureau of Land Management (BLM) previously issued a right-of-way lease (AZA38371), the BLM is segregating 4,439.92 acres of public lands from appropriation under the public land laws, including location under the Mining Law of 1872, but not the Mineral Leasing Act or Material Sales Act, for a period of 2 years from the date of publication of this notice, subject to valid existing rights. This segregation is to allow for the orderly administration of the public lands and to facilitate consideration of development of renewable energy resources.

DATES: The segregation of the lands identified in this notice is effective on December 12, 2024.

FOR FURTHER INFORMATION CONTACT: For further information and/or to have your name added to the project mailing list, send requests to: Derek Eysenbach, Project Manager, at telephone (602) 417-9505; address 1 N. Central Ave., Suite 800, Phoenix, AZ 85004; or email deysenbach@blm.gov. Individuals in the United States who are deaf, deafblind, hard of hearing, or have a speech disability may dial 711 (TTY, TDD, or TeleBraille) to access telecommunications relay services for contacting Derek Eysenbach. Individuals outside the United States should use the relay services offered within their country to make international calls to the point-of contact in the United States.

SUPPLEMENTARY INFORMATION: Regulations found at 43 CFR 2091.3-1(e) and 2804.25(f) allow the BLM to temporarily segregate public lands described within a ROW application for solar energy development from the operation of the public land laws, including the Mining Law, by publication of a notice in the Federal Register. The BLM uses the temporary segregation authority to preserve the ability to approve, approve with modifications, or deny a proposed ROW, and to facilitate the orderly administration of the public lands. This temporary segregation is subject to valid existing rights.

The BLM previously segregated the public lands associated with the Pinyon and Elisabeth Solar Projects in a notice of segregation published in the Federal Register on December 8, 2022 (87 FR 75283).

265BH 8me, LLC, a subsidiary of Avantus, LLC, submitted a right-of-way application to the BLM Lower Sonoran Field Office for the Pinyon Solar Project requesting authorization to construct, operate, maintain, and eventually decommission a 300-megawatt photovoltaic solar electric generating facility and ancillary facilities. On January 30, 2024, the BLM initiated an Environmental Assessment (EA) by opening a public scoping period. The BLM is currently preparing an EA and in consultation with the applicant, requires additional time to complete the assessment and reach a decision.

Elisabeth Solar, LLC, a subsidiary of Leeward Renewable Energy, LLC, and the BLM executed a right-of-way lease within the Agua Caliente Solar Energy Zone on September 16, 2022. On September 29, 2023, the BLM initiated an EA to consider Elisabeth Solar, LLC's proposed plan of development for the Elisabeth Solar Project within the lease area. On July 25, 2024, a Draft EA was made available for public comment. The BLM is currently preparing a Final EA and in consultation with the applicant, needs additional time to complete the assessment and reach a decision.

The public lands segregated by this notice are described as follows:

Pinyon Solar Project—AZA38172

Gila and Salt River Meridian, Arizona

T. 4 S., R. 1 E.,

Sec. 34, SW¼ SE¼;

T. 5 S., R. 1 E.,

Sec. 2, SW¼, NW¼, SW ¼, and SW¼, SE¼;

Sec. 3, lots 1 thru 4, S½, NE¼, S½, NW¼ and S½;

Sec. 10;

Sec. 11, W1/2.

The areas described as the Pinyon Solar Project contain 1,879.92 acres, according to the official plats of the surveys of the said lands on file with the BLM.

Elisabeth Solar Project—AZA38371

Gila and Salt River Meridian

T. 5 S., R. 12 W.,

Sec. 15, S½ NE¼ NE¼, S½ NW¼ NE¼, S½ NE¼, S½ NE¼ NW¼, S½ NW¼ NW¼, SE¼;

Sec. 17, SE¼, NE¼, SE¼;

Sec. 20, NE¼, SE¼, NW¼, E½, SW¼, SE¼;

Sec. 22, E½, NE¼, E½ SE¼;

Sec. 23, W½;

Sec. 26, N½, NE¼, NW¼, NW¼, NW¼;

Sec. 28, W½, NE¼, W½, W½, SE¼;

Sec. 29, NE¼, E½, NW¼, E½, SW¼, SE¼;

Sec. 33, NW¼, NW¼, NE¼, N½, NW¼, NW¼, SW¼; NW¼.

The areas described as the Elisabeth Solar Project aggregate 2,560 acres, more or less, according to the official plats of the surveys of the said lands on file with the BLM.

As provided in the regulations under 43 CFR 2091.3-1(e)(3), the segregation of the lands described in this notice will not exceed 2 years from the date of publication in the Federal Register.

For a period until December 12, 2026, subject to valid existing rights, the public lands described in this notice will be segregated from appropriation under the public land laws, including location under the Mining Law of 1872, but not from leasing under the mineral and geothermal leasing laws, or disposal under the Mineral Materials Act, while the ROW application is being processed. Licenses, permits, cooperative agreements, or discretionary land use authorizations of a temporary nature that will not significantly impact the application area may be allowed with the approval of the authorized officer of the BLM during the segregation period.

The segregation period will terminate and the lands will automatically open to appropriation under the public land laws, including the Mining Law, at the earliest of the following dates: upon issuance of a decision by the authorized officer granting, granting with modifications, or denying the application for a ROW; without further administrative action at the end of the segregation period; or upon publication of a Federal Register notice terminating the segregation and opening the lands.

(Authority: 43 CFR 2091.3-1(e) and 43 CFR 2804.25(f))

Amber Cargile,
Acting State Director.

[FR Doc. 2024-29142 Filed 12-11-24; 8:45 am]

BILLING CODE 4331-12-P